DEPARTMENT OF TRANSPORTATION

Office of the Secretary

Aviation Proceedings; Certificates of Public Convenience and Necessity and Foreign Air Carrier Permits

Notice of Applications for Certificates of Public Convenience and Necessity and Foreign Air Carrier Permits Filed Under subpart B (formerly subpart Q) during the Week Ending February 8, 2002. The following Applications for Certificates of Public Convenience and Necessity and Foreign Air Carrier Permits were filed under subpart B (formerly subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-1998-4686.

Date Filed: February 7, 2002.

Due Date for Answers, Conforming Applications, or Motion to Modify Scope: February 28, 2002.

Description: Amendment of Continental Airlines, Inc., to its application, amending its authority to engage in the scheduled foreign air transportation of persons, property, and mail over the following segments: (1) From points behind the United States via the United States and intermediate points to point or points in France, the French Departments of America, French Polynesia, Saint-Pierre and Miquelon and beyond; (2) from points behind the United States via the United States to New Caledonia and/or Wallis and Futuna. Continental also requests to integrate its U.S.-France certificate authority with its existing exemption and certificate authority.

Dorothy Y. Beard,
Federal Register Liaison.

[FR Doc. 02-6301 Filed 3-14-02; 8:45 am]

BILLING CODE 4910-62-P